DEPARTMENT OF DEFENSE

Office of the Secretary

Defense Business Board; Notice of Advisory Committee Meeting

AGENCY: Department of Defense, DoD.

ACTION: Notice of Advisory Committee meeting; Defense Business Board.

SUMMARY: The Defense Business Board (DBB) will meet in open session on Thursday, July 28, 2005, at the Pentagon, Washington, DC from 8:15 a.m. until 10:15 a.m. The mission of the DBB is to advise the Secretary of Defense on effective strategies for implementation of best business practices of interest to the Department of Defense. At this meeting, the Board will deliberate on their findings and recommendations related to: Key Prior DBB Recommendations and Proposed Metrics to Coincide with Business Transformation Priorities; Healthcare for Military Retirees; Performance-Based Management; and Military Postal Service.

DATES: Thursday, July 28, 2005, 8:15 a.m. to 10:15 a.m.

ADDRESSES: The Pentagon, 1100 Defense Pentagon, Room 2E314, Washington, DC 20301-1100

FOR FURTHER INFORMATION CONTACT: Members of the public who wish to attend the meeting must contact the Defense Business Board no later than Wednesday, July 27 for further information about admission as seating is limited. Additionally, those who wish to make oral comments or deliver written comments should also request to be scheduled, and submit a written text of the comments by Wednesday, July 27 to allow time for distribution to the Board members prior to the meeting. Individual oral comments will be limited to five minutes, with the total oral comment period not exceeding thirty-minutes.

The DBB may be contacted at: Defense Business Board, 1100 Defense Pentagon, Room 2E314, Washington, DC 20301-1100, via e-mail at stephan.smith@osd.mil, or via phone at (703) 614-7085.

Dated: July 15, 2005.
Jeannette Owings-Ballard,
OSD Federal Register Liaison Officer, Department of Defense.

[FR Doc. 05-14534 Filed 7-21-05; 8:45 am]

BILLING CODE 5001-06-M